DEPARTMENT OF THE INTERIOR

Bureau of Reclamation

Lake Berryessa Visitor Services Plan, Napa County, CA

AGENCY: Bureau of Reclamation, Interior.

ACTION: Notice of availability (NOA) of the final environmental impact statement (EIS).

SUMMARY: In accordance with the National Environmental Policy Act of 1969, the Bureau of Reclamation has prepared a Final EIS for the Lake Berryessa Visitor Services Plan (VSP). The Final EIS outlines the proposed project alternatives that seek to address issues related to the VSP, including the type and level of facilities and services that are appropriate for future uses on Federal land. Of the seven concession contracts at Lake Berryessa, six contracts expire in 2008/2009 and one interim contract expires in 2007. The VSP will be used as a basis for future concession contracts.

DATES: Reclamation will not make a decision on the proposed action until at least 30 days after release of the Final EIS. After the 30-day waiting period, Reclamation will complete a Record of Decision (ROD). The ROD will state the action that will be implemented and will discuss all factors leading to the decision.

ADDRESSES: To obtain a compact disc or paper copy of the Final EIS, please e-mail Ms. Janet Sierzputowski at jsierzputowski@mp.usbr.gov or write Ms. Sierzputowski at Bureau of Reclamation, 2800 Cottage Way (MP-140), Sacramento, CA 95825. The Final EIS may be viewed on the Region's Web site at http://www.usbr.gov/mp/nepa/nepa_projdetails.cfm?Project_ID=41. Copies of the Final EIS are available for review and inspection in public libraries in the project area.

FOR FURTHER INFORMATION CONTACT: Mr. Pete Lucero at 707-966-2111 x106, fax 707-966-0409, or e-mail: plucero@mp.usbr.gov.

SUPPLEMENTARY INFORMATION:

Background

Lake Berryessa was created as part of the Solano Project with the completion of Monticello Dam in 1957. In 1958, Reclamation and the County of Napa entered into an agreement for Napa County to assume recreational management responsibilities for the lake. A Public Use Plan (PUP) was developed by the National Park Service in 1959 to guide Reclamation and Napa County in the development of recreational facilities at the lake. In 1975, Reclamation resumed direct management of Lake Berryessa as a result of Title VI of the Reclamation Development Act of October 27, 1974 (Pub. L. 93-493), which authorizes Reclamation to provide for the protection, use, and enjoyment of the aesthetic and recreational values at Lake Berryessa. In 1987, a new planning process began to develop an updated management document for the lake. A Reservoir Area Management Plan (RAMP) was developed to provide guidance for Reclamation in management issues which were not mentioned in the PUP and to assist Reclamation in administering the lake and concession areas. Reclamation completed a Final EIS for the RAMP in 1993.

Presently there are seven concessionaires authorized by Reclamation to provide commercial support services to Lake Berryessa visitors. These seven concession contracts have been in effect since the late 1950s. One of the contracts will expire in 2007 and the other six will expire by 2009. Reclamation also administers two day-use areas and a public boat launching facility as well as numerous roadside turnouts and trails. The east side of the lake has been designated a State Wildlife Area and is managed cooperatively by Reclamation and the California Department of Fish and Game.

Visitor Services Plan (VSP)

The VSP will identify and develop the types and levels of recreation support services and facilities to be provided both commercially and by the government at Lake Berryessa. Some of the issues to be addressed in the VSP include day use needs, long-term and short-term recreational vehicle and trailer sites, retention or elimination of exclusive long-term trailer sites as presently operated, campground development, marina development, consolidation or expansion of existing commercial operations, new services development and construction, retention or removal of existing facilities, food and beverage service needs, overnight lodging facilities, and support for marine-based activities such as fishing (individual and tournament), swimming, water skiing, etc.

Additional Information

Additional information is available at the Web site: http://www.usbr.gov/mp/berryessa.

A Notice of Availability of the Draft EIS was published in the Federal Register on October 31, 2003 (68 FR 62097). Notices to extend the comment period were published on February 13, 2004 (69 FR 7261) and on May 4, 2004 (69 FR 24668). The last extension of the comment period ended on April 22, 2004. The Final EIS contains responses to all comments received and reflects comments and any additional information received during the review period.

Reclamation's practice is to make any communication related to proposed projects, including names and home addresses, available for public review. Individual respondents may request that we withhold their home address from public disclosure, which will be honored to the extent allowable by law. There may be circumstances in which a respondent's identity may also be withheld from public disclosure, as allowable by law. If you wish to have your name and/or address withheld, you must state this prominently at the beginning of your communication. All submissions from organizations or businesses, and from individuals identifying themselves as representatives or officials of organizations or businesses, will be made available for public disclosure in their entirety.

Dated: September 30, 2005.
Alan R. Candlish,
Acting Regional Director, Mid-Pacific Region.

[FR Doc. 05-22025 Filed 11-3-05; 8:45 am]

BILLING CODE 4310-MN-P